DEPARTMENT OF THE INTERIOR

Bureau of Reclamation

Colorado River Interim Surplus Criteria

AGENCY: Bureau of Reclamation, Department of the Interior.

ACTION: Notice of revised dates for public hearings on the proposed adoption of Colorado River Interim Surplus Criteria: INT-DES 00-25.

SUMMARY: Pursuant to Section 102(2)(C) of the National Environmental Policy Act (NEPA) of 1969, as amended, and the Council on Environmental Quality's Regulations for Implementing the Procedural Provisions of NEPA, the Bureau of Reclamation (Reclamation), has issued a Draft Environmental Impact Statement (DEIS) on the proposed adoption of specific criteria under which surplus water conditions may be determined in the Lower Colorado River Basin during the next 15 years.

This notice updates the Federal Register notice published on July 7, 2000 (65 FR 42028) and provides notice of revised dates for public hearings on the proposed adoption of Colorado River Interim Surplus Criteria. Information on revised dates and locations for public hearings may be found below in the DATES section.

ADDRESSES: The comment period on the DEIS remains unchanged. Send comments on the DEIS to Ms. Jayne Harkins, Attention BCOO-4600, PO Box 61470, Boulder City, Nevada, 89006-1470, or fax comments to Ms. Harkins at (702) 293-8042. As provided in the Federal Register notice published on July 7, 2000 (65 FR 42028), comments on the DEIS must be received no later than September 8, 2000.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

DATES: The public comment period on the DEIS remains unchanged and comments on this DEIS must be received no later than September 8, 2000.

Public hearings will be held to receive written or verbal comments on the DEIS from interested organizations and individuals on the environmental impacts of the proposal. The public hearings identified in the Federal Register notice published on July 7, 2000 (65 FR 42028) will not be held. Instead, a revised schedule for the hearings follows. The hearings will be held at the following times and locations:

• August 21, Big Bear Room, Doubletree Hotel, 222 N. Vineyard Ave., Ontario, CA, 7 p.m.

• August 22, Comfort Dental Conference Room, Las Vegas Chamber of Commerce, 3720 Howard Hughes Parkway, Las Vegas, NV, 7 p.m.

• August 23, Jazz Room, Salt Lake City International Airport, 765 Terminal Drive, Salt Lake City, Utah, 7 p.m.

• August 24, Meeting Room 1 on Level 3, Terminal 4, Phoenix Sky Harbor Airport, Phoenix, Arizona, 7 p.m.

In addition to the public hearings, a separate hydrologic modeling meeting will be held in Las Vegas, NV. Reclamation will provide detailed assumptions and respond to questions regarding the model runs, use schedules, and post-processing analysis that was completed for this DEIS. The time and location for the hydrologic modeling meeting has not changed from the information provided in the Federal Register notice published on July 7, 2000 (65 FR 42028). The time and location for this technical meeting is as follows:

• August 15, Comfort Dental Conference Room, Las Vegas Chamber of Commerce, 3720 Howard Hughes Parkway, Las Vegas, NV, 9 a.m. to 5 p.m.

The hearings and the hydrologic modeling meeting will accommodate those with hearing impairments or other special requirements upon request by calling Janet Steele at (702) 293-8551 at least 48 hours prior to the hearing.

The DEIS remains available for viewing on the Internet at http://www.lc.usbr.gov and http://www.uc.usbr.gov. Copies of the DEIS, in the form of a printed document or on compact disk, remain available upon written request to the following address: Ms. Janet Steele, Attention BCOO-4601, PO Box 61470, Boulder City, Nevada 89006-1470, Telephone: (702) 293-8785, or by fax at (702) 293-8042.

FOR FURTHER INFORMATION CONTACT: For additional information, contact Ms. Jayne Harkins at the above address or telephone Ms. Harkins at (702) 293-8785.

Dated: July 28, 2000.
Erica Petacchi,
Federal Register Liaison.

[FR Doc. 00-19580 Filed 8-1-00; 8:45 am]

BILLING CODE 4310-MN-P